DEPARTMENT OF STATE

[Public Notice 6015]

Announcement of Meetings of the International Telecommunication Advisory Committee

SUMMARY: This notice announces meetings of the International Telecommunication Advisory Committee (ITAC) to prepare advice on U.S. positions for the February 2008 meeting of the Telecommunication Development Advisory Group (TDAG) of the International Telecommunication Union (ITU-D).

The ITAC will meet as the ITAC-D to prepare advice for the U.S. on positions for the February 2008 meeting of the Telecommunication Development Advisory Group (TDAG) of the International Telecommunication Union (ITU-D) on the Thursdays of January 17, 24, and 31, all 2-4 p.m. at the Harry S. Truman Building (Main State), 2201 C Street, NW., Washington, DC room 5804. Meeting details and detailed agendas will be posted on the mailing list itac-d@eblist.state.gov. People desiring to participate on this list may apply to the secretariat at minardje@state.gov.

The meetings are open to the public.

Dated: December 13, 2007.
Doreen F. McGirr,
International Communications & Information Policy, Department of State.

[FR Doc. E7-24633 Filed 12-18-07; 8:45 am]

BILLING CODE 4710-45-P